DEPARTMENT OF DEFENSE

Department of the Navy

Notice of Intent To Grant a Partially Exclusive Patent License; RMZ Biotech, Inc.

AGENCY: Department of the Navy, DOD.

ACTION: Notice.

SUMMARY: The Department of the Navy hereby gives notice of its intent to grant to RMZ Biotech, Inc., a revocable, nonassignable, partially exclusive, license to practice worldwide the Government-Owned invention described in U.S. Patent Number 5,895,651 entitled “Recombinant Dengue Virus Envelop Protein/Maltose-Binding Protein Antigens and Subunit Vaccine Compositions Containing Said Antigens,” issued 20 April 1999, in the field of rapid diagnostic test kits for Dengue Virus infection.

DATES: Anyone wishing to object to the grant of this license has fifteen (15) days from the date of this notice to file written objections along with supporting evidence, if any. Written objections are to be filed with the Office of Technology Transfer, Naval Medical Research Center, 503 Robert Grant Ave., Silver Spring, MD 20910-7500, telephone (301) 319-7428.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428.

Dated: November 12, 2002.
R.E. Vincent II,
Lieutenant Commander, Judge Advocate General's Corps, U.S. Navy, Federal Register Liaison Officer.

[FR Doc. 02-29614 Filed 11-20-02; 8:45 am]

BILLING CODE 3810-FF-M